DEPARTMENT OF AGRICULTURE

Animal and Plant Health Inspection Service

9 CFR Part 94

[Docket No. 00-080-1]

Change in Disease Status of East Anglia Because of Hog Cholera

AGENCY: Animal and Plant Health Inspection Service, USDA.

ACTION: Interim rule and request for comments.

SUMMARY: We are amending the regulations governing the importation of swine and pork and pork products by removing East Anglia, a region of England that includes the counties of Essex, Norfolk, and Suffolk, from the list of regions considered to be free from hog cholera. We are taking this action based on reports we have received from Great Britain's Ministry of Agriculture, Fisheries and Food that an outbreak of hog cholera has occurred in East Anglia. As a result of this action, there will be additional restrictions on the importation of pork and pork products into the United States from East Anglia, and the importation of swine from East Anglia will be prohibited.

DATES: This interim rule was effective August 4, 2000. We invite you to comment on this docket. We will consider all comments that we receive by November 20, 2000.

ADDRESSES: Please send your comment and three copies to: Docket No. 00-080-1, Regulatory Analysis and Development, PPD, APHIS, Suite 3C03, 4700 River Road, Unit 118, Riverdale, MD 20737-1238.

Please state that your comment refers to Docket No. 00-080-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Gary Colgrove, Chief Staff Veterinarian, National Center for Import and Export, VS, APHIS, 4700 River Road Unit 38, Riverdale, MD 20737-1231, (301) 734-3276.

SUPPLEMENTARY INFORMATION:

Background

The regulations in 9 CFR part 94 (referred to below as the regulations) govern the importation into the United States of specified animals and animal products in order to prevent the introduction of various animal diseases, including rinderpest, foot-and-mouth disease, African swine fever, hog cholera, and swine vesicular disease. These are dangerous and destructive communicable diseases of ruminants and swine. Section 94.9 of the regulations restricts the importation into the United States of pork and pork products from regions where hog cholera is known to exist. Section 94.10 of the regulations, with certain exceptions, prohibits the importation of swine that originate in or are shipped from or transit any region in which hog cholera is known to exist. Sections 94.9(a) and 94.10(a) of the regulations provide that hog cholera exists in all regions of the world except for certain regions listed in those sections.

Prior to the effective date of this interim rule, Great Britain (England, Scotland, Wales, and Isle of Man) was included in the lists in §§ 94.9(a) and 94.10(a) of regions in which hog cholera is not known to exist. On August 8, 2000, Great Britain's Ministry of Agriculture, Fisheries and Food (MAFF) reported that an outbreak of hog cholera had occurred in East Anglia, a region of England that includes the counties of Essex, Norfolk, and Suffolk. After reviewing the reports submitted by MAFF, the Animal and Plant Health Inspection Service has determined that it is necessary to remove East Anglia from the list of regions considered to be free of hog cholera.

Therefore, we are amending §§ 94.9(a) and 94.10(a) by removing East Anglia from the list of regions in which hog cholera is not known to exist. We are making this amendment effective retroactively to August 4, 2000, because that is the day that hog cholera was initially suspected in East Anglia. On August 8, 2000, MAFF confirmed East Anglia's outbreak of hog cholera. As a result of this action, the importation of swine from East Anglia is prohibited, and pork and pork products from East Anglia will not be eligible for entry into the United States unless the pork or pork products are cooked or cured and dried in accordance with the regulations. Other regions of England, as well as Scotland, Wales, and Isle of Man, will remain on the list of regions considered to be free of hog cholera in §§ 94.9(a) and 94.10(a).

Although we are removing East Anglia from the list of regions in which hog cholera is not known to exist, we recognize that MAFF immediately responded to the detection of the disease by imposing restrictions on the movement of pork, pork products, and swine from the affected area and initiating measures to eradicate the disease. At the time of publication of this interim rule, it appears that the outbreak is well controlled. Because of MAFF's efforts to ensure that hog cholera does not spread beyond East Anglia, we intend to reassess the situation, in accordance with the standards of the Office International des Epizooties. In that reassessment process, we will consider all comments received on this interim rule. This future assessment will determine whether it is necessary to continue to prohibit the importation of swine from East Anglia and restrict the importation of pork and pork products from East Anglia or whether we can restore East Anglia to the list of regions in which hog cholera is not known to exist.

Emergency Action

The Administrator of the Animal and Plant Health Inspection Service has determined that an emergency exists that warrants publication of this interim rule without prior opportunity for public comment. Immediate action is necessary to prevent the introduction of hog cholera into the United States.

Because prior notice and other public procedures with respect to this action are impracticable and contrary to the public interest under these conditions, we find good cause under 5 U.S.C. 553 to make this action effective on August 4, 2000. We will consider comments that are received within 60 days of publication of this rule in the Federal Register. After the comment period closes, we will publish another document in the Federal Register. It will include a discussion of any comments we receive and any amendments we are making to the rule as a result of the comments.

Executive Order 12866 and Regulatory Flexibility Act

This rule has been reviewed under Executive Order 12866. For this action, the Office of Management and Budget has waived its review process required by Executive Order 12866.

This action amends the regulations by removing East Anglia from the list of regions that are considered to be free of hog cholera. We are taking this action based on reports we have received from MAFF, which confirm that an outbreak of hog cholera has occurred in East Anglia.

This emergency situation makes timely compliance with section 604 of the Regulatory Flexibility Act (5 U.S.C. 601 et seq.) impracticable. We are currently assessing the potential economic effects of this action on small entities. Based on that assessment, we will either certify that the rule would not have a significant economic impact on a substantial number of small entities or publish a final regulatory flexibility analysis.

Executive Order 12988

This rule has been reviewed under Executive Order 12988, Civil Justice Reform. This rule: (1) Preempts all State and local laws and regulations that are inconsistent with this rule; (2) has retroactive effect to August 4, 2000; and (3) does not require administrative proceedings before parties may file suit in court challenging this rule.

Paperwork Reduction Act

This rule contains no new information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 continues to read as follows:

Authority: 7 U.S.C. 147a, 150ee, 161, 162, and 450; 19 U.S.C. 1306; 21 U.S.C. 111, 114a, 134a, 134b, 134c, 134f, 136, and 136a; 31 U.S.C. 9701; 42 U.S.C. 4331 and 4332; 7 CFR 2.22, 2.80, and 371.2(d).

2. In § 94.9, paragraph (a) is revised to read as follows:

§ 94.9 Pork and pork products from regions where hog cholera exists.

(a) Hog cholera is known to exist in all regions of the world except Australia; Canada; Denmark; England, except for East Anglia (Essex, Norfolk, and Suffolk counties); Fiji; Finland; Iceland; Isle of Man; New Zealand; Northern Ireland; Norway; the Republic of Ireland; Scotland; Sweden; Trust Territory of the Pacific Islands; and Wales.¹⁰

¹⁰ See also other provisions of this part and parts 92, 95, and 96 of this chapter, and 327 of this title for other prohibitions and restrictions upon importation of swine and swine products.

* * * * *

3. In § 94.10, paragraph (a), the first sentence is revised to read as follows:

§ 94.10 Swine from regions where hog cholera exists.

(a) Hog cholera is known to exist in all regions of the world except Australia; Canada; Denmark; England, except for East Anglia (Essex, Norfolk, and Suffolk counties); Fiji; Finland; Iceland; Isle of Man; New Zealand; Northern Ireland; Norway; the Republic of Ireland; Scotland; Sweden; Trust Territory of the Pacific Islands; and Wales. * * *

* * * * *

Done in Washington, DC, this 14th day of September 2000.
Bobby R. Acord,
Acting Administrator, Animal and Plant Health Inspection Service.

[FR Doc. 00-24136 Filed 9-19-00; 8:45 am]

BILLING CODE 3410-34-U